DEPARTMENT OF ENERGY

Federal Energy Regulatory Commission

Notice of Meeting on Initial Information Package and Project Site Visit for an Alternative Licensing Procedure

October 18, 2001.

a. Type of Application: Alternative Licensing Procedure.

b. Project No.: 11803-002.

c. Applicant: City of Broken Bow, Oklahoma.

d. Name of Project: Broken Bow Reregulating Dam Project.

e. Location: On the Mountain Fork River near the town of Broken Bow, McCurtain County, Oklahoma utilizing federal lands administered by the U.S. Army Corps of Engineers.

f. Filed Pursuant to: Federal Power Act, 16 U.S.C. 791(a)-825(r).

g. Applicant Contact: Stewart Noland, Crist Engineers, Inc., 1405 North Pierce Street, Suite 301, Little Rock, AR 72207, (501) 664-1552.

h. FERC Contact: Peter Leitzke at (202) 219-2803; e-mail peter.leitzke@ferc.fed.us.

i. The proposed project would utilize the existing U.S. Army Corps of Engineers' Broken Bow Reregulating Dam and would consist of: (1) A new 50-foot-long, 50-foot-wide, 20-foot-high powerhouse containing one or two generating units having a total installed capacity of 5,000 kilowatts; (2) a short transmission line; and (3) appurtenant facilities.

j. Public Meetings and Project Site Visit

The City of Broken Bow is using the Federal Energy Regulatory Commission's (Commission) alternative licensing procedure (ALP). Under the ALP, the City of Broken Bow will prepare an Applicant Prepared Environmental Assessment (APEA) and license application for the Broken Bow Reregulating Dam Hydroelectric Project.

The ALP includes provisions for the distribution of an initial information package (IIP), and for the cooperative scoping of environmental issues and information needs. The City of Broken Bow plans to distribute its IIP for the Broken Bow Project on or about October 15, 2001, to the mailing list for this proceeding.

The City of Broken Bow will hold informational meetings and a project site visit on November 15, and 16, 2001. The purpose of the meetings is to review the information presented in the IIP and to initiate the identification of areas of interest which should be addressed in the licensing and related Applicant Prepared Environmental Assessment (APEA) processes. All interested individuals, organizations, and agency representatives are invited and encouraged to attend any or all the meetings.

The site visit is intended to provide the opportunity for interested individuals to learn more about the proposed project, its operations and the surrounding environment. Planned activities include a facility tour, a visit to public access sites, and a tour of the project reservoir and waterway.

Additional notices seeking comments on the specific project proposal, public scoping, interventions and protests, and recommended terms and conditions will be issued at later dates.

The site visit will begin at 2 p.m. November 15 at the Broken Bow City Hall, 210 North Broadway, Broken Bow, Oklahoma.

The November 15th meeting will be held at the Broken Bow Library Public Meeting Room, 400 North Broadway, Broken Bow, Oklahoma, beginning at 7 p.m.

The November 16th meeting will be held at the Broken Bow City Hall, 210 North Broadway, Broken Bow, Oklahoma, beginning at 8 a.m.

Based on feedback received on the IIP, the meetings, and the project site visit, the City of Broken Bow will prepare a Scoping Document 1 (SD1) which will provide information on the scoping process, APEA schedule, background information, potential environmental issues, and proposed project alternatives. Additional meetings may be held to assist in the development of SD1.

Upon issuance of SD1, the City of Broken Bow and the Commission will issue public notice of its availability and will hold a public scoping meeting(s) pursuant to the National Environmental Policy Act of 1969 (NEPA).

All interested individuals, organizations, and agencies are invited and encouraged to attend the informational meetings on the IIP and project site visit, and to assist in the identification of environmental issues that should be included in SD1.

For further information regarding the informational meetings and project site visit or to be added to the mailing list for the Broken Bow Reregulating Dam Project ALP, please contact Stewart Noland at (501) 664-1552 or Peter Leitzke of the Commission's staff at (202) 219-2803.

David P. Boergers,
Secretary.

[FR Doc. 01-26717 Filed 10-23-01; 8:45 am]

BILLING CODE 6717-01-P